DEPARTMENT OF HEALTH AND HUMAN SERVICES

Centers for Medicare & Medicaid Services

[Document Identifiers: CMS-10578, CMS-10934, and CMS-R-306]

Agency Information Collection Activities: Submission for OMB Review; Comment Request

AGENCY: Centers for Medicare & Medicaid Services, Health and Human Services (HHS).

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information, including each proposed extension or reinstatement of an existing collection of information, and to allow a second opportunity for public comment on the notice. Interested persons are invited to send comments regarding the burden estimate or any other aspect of this collection of information, including the necessity and utility of the proposed information collection for the proper performance of the agency's functions, the accuracy of the estimated burden, ways to enhance the quality, utility, and clarity of the information to be collected, and the use of automated collection techniques or other forms of information technology to minimize the information collection burden.

DATES: Comments on the collection(s) of information must be received by the OMB desk officer by March 9, 2026.

ADDRESSES: Written comments and recommendations for the proposed information collection should be sent within 30 days of publication of this notice to www.reginfo.gov/public/do/PRAMain. Find this particular information collection by selecting “Currently under 30-day Review—Open for Public Comments” or by using the search function.

To obtain copies of a supporting statement and any related forms for the proposed collection(s) summarized in this notice, please access the CMS PRA website by copying and pasting the following web address into your web browser: https://www.cms.gov/Regulations-and-Guidance/Legislation/PaperworkReductionActof1995/PRA-Listing.

FOR FURTHER INFORMATION CONTACT: William Parham at (410) 786-4669.

SUPPLEMENTARY INFORMATION: Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to publish a 30-day notice in the Federal Register concerning each proposed collection of information, including each proposed extension or reinstatement of an existing collection of information, before submitting the collection to OMB for approval. To comply with this requirement, CMS is publishing this notice that summarizes the following proposed collection(s) of information for public comment.

1. Type of Information Collection Request: Reinstatement with change of a previously approved collection; Title of Information Collection: Emergency Preparedness Requirements for Medicare and Medicaid Participating Providers and Suppliers; Use: This information collection (IC) ensures compliance with Emergency Preparedness Conditions of Participation (CoPs) for Medicare and Medicaid certified providers and suppliers. The CoPs, established through the final rule published at Medicare and Medicaid Programs; Emergency Preparedness Requirements for Medicare and Medicaid Participating Providers and Suppliers, 81 FR 63860 (September 16, 2016) and subsequently revised per 84 FR 51732 (September 30, 2019), require facilities to develop and maintain four core elements: (1) risk assessment and emergency plan; (2) policies and procedures; (3) communication plan; and (4) training and testing program.

This reinstatement captures the burden for existing providers to maintain and annually update their emergency preparedness programs (originally developed in 2016/2017) and for newly certified facilities to initially develop required components. The information is reviewed by State survey agencies during certification surveys to establish compliance with Medicare CoPs, ensuring patient health and safety. This reinstatement includes a newly added facility type—Rural Emergency Hospitals (REHs), created through the Consolidated Appropriations Act of 2021. Form Number: CMS-10578 (OMB control number 0938-1325); Frequency: Annually and biennially; Affected Public: Private Sector: Business or other for-profits and Not-for-profits institutions; Number of Respondents: 180,915; Total Annual Responses: 180,915; Total Annual Hours: 1,251,158. (For policy questions regarding this collection contact Claudia Molinar at 410-786-8445.)

2. Type of Information Collection Request: New collection (Request for a new OMB control number); Title of Information Collection: 13th SOW Quality Innovation Network—Quality Improvement Organization (QIN-QIO) and American Indian Alaskan Native (AIAN) Measure Data Collection; Use: The Quality Innovation Network—Quality Improvement Organization (QIN-QIO) program and American Indian Alaskan Native (AIAN) program assists providers/practices with high-quality, hands-on quality improvement assistance toward meeting their needs, and the healthcare quality and safety goals for beneficiaries. The purpose of this new information collection within these programs is to quantify performance and improvement in a broad set of quality measures that are not currently available from other sources. Selected measures are derived from the Merit Based Incentive Payment System (MIPS), the Hospital Inpatient Quality Reporting Program (HIQR), the Hospital Outpatient Quality Reporting Program (HOQR), and the CDC National Healthcare Safety Network (NHSN).

Measure data collection is an integral part of the quality improvement process. It is the primary source of knowledge about quality of care, allowing Quality Improvement (QI) practitioners to understand current state and quantitatively measure progress and effectiveness. There are three primary user categories for this data collection:

• Participants in the QIO program will use measure data from their facilities/practices to implement their own quality improvement efforts, and benefit from the collection and analysis of data from other facilities and practices to contextualize progress towards QI goals.

• QI contractors (both QIOs and the AIAN contractor) will use measure data to direct their efforts and understand the effectiveness of interventions, to measure progress towards their contractual objectives, and to report on progress to CMS.

• CMS will use the collected measure data along with derived analytic products to track the success of the program, to inform strategic decisions and priorities, and to calculate return on investment.

Form Number: CMS-10934 (OMB control number: 0938-NEW); Frequency: Quarterly; Affected Public: Private Sector—Business or other for-profits and Not-for-profit institutions; Number of Respondents: 16,735; Total Annual Responses: 66,940; Total Annual Hours: 1,471,284. (For policy questions regarding this collection contact Geoffrey Berryman at (410)786-8766.)

3. Type of Information Collection Request: Reinstatement without change of a previously approved collection; Title of Information Collection: Conditions of Participation for Psychiatric Residential Treatment Facilities' (PRTFs) Use of Restraint & Seclusion; Use: We are requesting reinstatement of the previously approved information collection. This collection supports CMS's oversight of the use of involuntary “restraint” and “seclusion”—interventions used to manage patients who pose a danger to themselves or others, in psychiatric residential treatment facilities (PRTFs) that serve individuals under age 21. As authorized under the Social Security Act, the Medicaid program allows federal funding available for state expenditures under an approved State Medicaid plan for inpatient psychiatric services in both hospital and non-hospital settings. Non-hospital settings, defined as PRTFs, serve individuals under age 21 with psychiatric conditions that require physician-directed inpatient care in a residential setting.

The requirements under 42 CFR 483.350 et seq. are used by CMS to monitor compliance in Psychiatric Residential Treatment Facilities (PRTFs). Compliance is assessed by state surveyors through on-site surveys and is used to determine a facility's eligibility for Medicare certification and re-certification. PRTFs are typically surveyed at least once every six years. Form Number: CMS-R-306 (OMB control number: 0938-0833); Frequency: Occasionally; Affected Public: Private sector (Business or other for-profits); Number of Respondents: 366; Total Annual Responses: 1,376,621; Total Annual Hours: 439,623. (For policy questions regarding this collection contact Claudia Molinar at 410-786-8445.)

William N. Parham, III,
Director, Division of Information Collections and Regulatory Impacts, Office of Strategic Operations and Regulatory Affairs.

[FR Doc. 2026-02371 Filed 2-5-26; 8:45 am]

BILLING CODE 4120-01-P